DEPARTMENT OF TRANSPORTATION

Federal Aviation Administration

14 CFR Part 39

[Docket No. FAA-2004-19536; Directorate Identifier 2004-NM-86-AD; Amendment 39-14247; AD 2005-18-07]

RIN 2120-AA64

Airworthiness Directives; McDonnell Douglas Model DC-8-11, DC-8-12, DC-8-21, DC-8-31, DC-8-32, DC-8-33, DC-8-41, DC-8-42, and DC-8-43 Airplanes; DC-8-50 Series Airplanes; DC-8F-54 and DC-8F-55 Airplanes; DC-8-60 Series Airplanes; DC-8-60F Series Airplanes; DC-8-70 Series Airplanes; and DC-8-70F Series Airplanes

AGENCY: Federal Aviation Administration (FAA), Department of Transportation (DOT).

ACTION: Final rule.

SUMMARY: The FAA is superseding an existing airworthiness directive (AD), which applies to certain McDonnell Douglas transport category airplanes. That AD currently requires repetitive inspections for cracking of the lower cargo doorjamb corners, and corrective action if necessary. That AD provides for optional terminating action for certain repetitive inspections for certain airplanes. For certain other airplanes, that AD requires modification of the lower cargo doorjamb corners. This new AD adds airplanes to the applicability. The existing AD was prompted by reports of fatigue cracks in the fuselage skin in the lower cargo doorjamb corners; this AD is prompted by the inadvertent omission of certain airplanes from the existing applicability. We are issuing this AD to ensure that the unsafe condition will be addressed on all affected airplanes so that cracking in the lower cargo doorjamb corners is detected and corrected before it can result in rapid decompression of the fuselage and consequent reduced structural integrity of the airplane.

DATES: Effective October 7, 2005.

On April 29, 2004 (69 FR 15234, March 25, 2004), the Director of the Federal Register approved the incorporation by reference of McDonnell Douglas Service Bulletin DC8-53-078, Revision 01, dated January 25, 2001.

ADDRESSES: You may examine the AD docket on the Internet at http://dms.dot.gov or in person at the Docket Management Facility, U.S. Department of Transportation, 400 Seventh Street SW., Nassif Building, Room PL-401, Washington, DC.

Contact Boeing Commercial Airplanes, Long Beach Division, 3855 Lakewood Boulevard, Long Beach, California 90846, Attention: Data and Service Management, Dept. C1-L5A (D800-0024), for service information identified in this AD.

FOR FURTHER INFORMATION CONTACT: Jon Mowery, Aerospace Engineer, Airframe Branch, ANM-120L, FAA, Los Angeles Aircraft Certification Office, 3960 Paramount Boulevard, Lakewood, California 90712-4137; telephone (562) 627-5322; fax (562) 627-5210.

SUPPLEMENTARY INFORMATION:

Examining the Docket

You may examine the AD docket on the Internet at http://dms.dot.gov or in person at the Docket Management Facility office between 9 a.m. and 5 p.m., Monday through Friday, except Federal holidays. The Docket Management Facility office (telephone (800) 647-5227) is located on the plaza level of the Nassif Building at the street address stated in the ADDRESSES section.

Discussion

The FAA issued a notice of proposed rulemaking (NPRM) to amend 14 CFR part 39 to include an AD that supersedes AD 2004-06-06, amendment 39-13532 (69 FR 15234, March 25, 2004). The existing AD applies to certain McDonnell Douglas transport category airplanes. That NPRM was published in the Federal Register on November 5, 2004 (69 FR 64523). That NPRM proposed to add new airplanes to the applicability of AD 2004-06-06, and retained the requirements for repetitive inspections for cracking of the lower cargo doorjamb corners, and corrective action if necessary. That NPRM also retained the provision for optional terminating action for certain repetitive inspections for certain airplanes. For certain other airplanes, that NPRM retained the requirement to modify the lower cargo doorjamb corners.

Comments

We provided the public the opportunity to participate in the development of this AD. We have considered the comments that have been received on the NPRM.

Request To Remove the Reporting Requirements

Two commenters request that the reporting requirements be removed from the NPRM. One commenter requests that, if the reporting requirements must be retained, the compliance time to report (within 10 days of the inspection) be extended to 30 days. One commenter states that the reporting of negative findings would provide very little useful information while imposing additional workload and cost to the operators and to the FAA. The other commenter also notes that similar ADs requiring inspections on principal structural elements on door corners do not mandate reporting requirements.

We agree with the commenter for the reasons stated, and have removed the reporting requirements from this AD.

Changes to Delegation Authority

Boeing has received a Delegation Option Authorization (DOA). We have revised this final rule to delegate the authority to approve an alternative method of compliance for any repair required by this AD to the Authorized Representative for the Boeing DOA Organization rather than the Designated Engineering Representative (DER).

Explanation of Change to the Applicability

We have specified model designations in the applicability of this AD as published in the most recent type certificate data sheet for the affected models.

Conclusion

We have carefully reviewed the available data, including the comments that have been received, and determined that air safety and the public interest require adopting the AD with the changes described previously. We have determined that these changes will neither increase the economic burden on any operator nor increase the scope of the AD.

Costs of Compliance

This AD affects about 264 airplanes worldwide. The following table provides the estimated costs for U.S. operators to comply with this AD, which adds no economic burden above that imposed by AD 2004-06-06. The current costs for this AD are repeated for the convenience of affected operators, as follows:

Estimated Costs
Action | Work hours | Average labor rate per hour | Parts | Cost per airplane | Number of affected U.S.-registered airplanes | Fleet cost
Pre-modification inspections | 24 | $65 | None required | $1,560, per inspection cycle | Unknown | Unknown.
Modification | 520 | 65 | $25,000 | $58,800 | Unknown | Unknown.
Post-modification inspections | 40 | 65 | None required | $2,600, per inspection cycle | 244 | $634,400, per inspection cycle.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by removing amendment 39-13532 (69 FR 15234, March 25, 2004) and by adding the following new airworthiness directive (AD):

2005-18-07 McDonnell Douglas: Amendment 39-14247. Docket No. FAA-2004-19536; Directorate Identifier 2004-NM-86-AD.

Effective Date

(a) This AD becomes effective October 7, 2005.

Affected ADs

(b) This AD supersedes AD 2004-06-06, amendment 39-13532.

Applicability

(c) This AD applies to the following McDonnell Douglas airplanes, certificated in any category; as listed in McDonnell Douglas Service Bulletin DC8-53-078, Revision 01, dated January 25, 2001:

(1) Model DC-8-11, DC-8-12, DC-8-21, DC-8-31, DC-8-32, DC-8-33, DC-8-41, DC-8-42, and DC-8-43 airplanes;

(2) Model DC-8-51, DC-8-52, DC-8-53, and DC-8-55 airplanes;

(3) Model DC-8F-54 and DC-8F-55 airplanes;

(4) Model DC-8-61, DC-8-62, and DC-8-63 airplanes;

(5) Model DC-8-61F, DC-8-62F, and DC-8-63F airplanes;

(6) Model DC-8-71, DC-8-72, and DC-8-73 airplanes; and

(7) Model DC-8-71F, DC-8-72F, and DC-8-73F airplanes.

Unsafe Condition

(d) This AD was prompted by reports of fatigue cracks in the fuselage skin in the lower cargo doorjamb corners. We are issuing this AD to detect and correct cracking in the lower cargo doorjamb corners, which could result in rapid decompression of the fuselage and consequent reduced structural integrity of the airplane.

Compliance

(e) You are responsible for having the actions required by this AD performed within the compliance times specified, unless the actions have already been done.

Restatement of Requirements of AD 2004-06-06

Note 1: This AD is related to AD 93-01-15, amendment 39-8469, and will affect Principal Structural Elements (PSEs) 53.08.042 and 53.08.043 of the DC-8 Supplemental Inspection Document (SID), Report L26-011, Volume II, Revision 7, dated April 1993.

Group 1 Airplanes: Inspections and Optional Terminating Action

(f) Except as provided by paragraph (l) of this AD: For airplanes identified as Group 1 in McDonnell Douglas Service Bulletin DC8-53-078, Revision 01, dated January 25, 2001:

(1) Within 2,000 landings or 3 years after April 29, 2004 (the effective date of AD 2004-06-06, amendment 39-13532), whichever occurs first, perform applicable inspections for cracking of the lower cargo doorjamb corners, in accordance with the Accomplishment Instructions of the service bulletin.

(i) If no crack is detected during any inspection required by this paragraph: Repeat the inspections within the intervals specified in paragraph 1.E. of the service bulletin.

(ii) If any crack is detected during any inspection required by this paragraph: Repair before further flight in accordance with the Accomplishment Instructions of the service bulletin.

(2) Modification of the lower cargo doorjamb corners in accordance with the Accomplishment Instructions of the service bulletin terminates the repetitive inspection requirement of paragraph (f)(1)(i) of this AD.

(3) For airplanes repaired or modified in accordance with paragraph (f)(1)(ii) or (f)(2) of this AD: Within 17,000 landings after the repair or modification, perform an eddy current inspection for cracks of the doorjamb corners, in accordance with the Accomplishment Instructions of the service bulletin (Drawing SN08530001). Repeat the inspection at intervals not to exceed 4,400 landings.

Group 2 Airplanes: Modification

(g) Except as provided by paragraph (l) of this AD, for airplanes identified as Group 2 in McDonnell Douglas Service Bulletin DC8-53-078, Revision 01, dated January 25, 2001:

(1) Within 2,000 landings or 3 years after April 29, 2004, whichever occurs first, modify the lower cargo doorjamb corners in accordance with the Accomplishment Instructions of the service bulletin.

(2) Within 17,000 landings after the modification required by paragraph (g)(1) of this AD, perform applicable inspections for cracking of the doorjamb corners, in accordance with the Accomplishment Instructions of the service bulletin. Repeat the inspections at intervals not to exceed 4,400 landings.

Group 3 and Group 4 Airplanes: Inspections

(h) For airplanes identified as Group 3 and Group 4 in McDonnell Douglas Service Bulletin DC8-53-078, Revision 01, dated January 25, 2001: Within 17,000 landings following accomplishment of the modification specified in the service bulletin, perform applicable inspections for cracking of the lower cargo doorjamb corners, in accordance with the Accomplishment Instructions of the service bulletin. Repeat the inspections at intervals not to exceed 4,400 landings.

All Airplanes: Repair Following Post-Modification Inspections

(i) If any cracking is detected during any inspection required by paragraph (f)(3), (g)(2), or (h) of this AD: Repair before further flight in accordance with a method approved by the Manager, Los Angeles Aircraft Certification Office (ACO), FAA; or per data meeting the type certification basis of the airplane approved by an Authorized Representative for the Boeing Delegation Option Authorization Organization who has been authorized by the Manager, Los Angeles ACO, to make those findings. For a repair method to be approved, the repair must meet the certification basis of the airplane, and the approval must specifically refer to this AD.

Credit for Prior Accomplishment

(j) Inspections done before the effective date of April 29, 2004, in accordance with McDonnell Douglas Service Bulletin DC8-53-078, dated February 6, 1996, are acceptable for compliance with the applicable inspections required by this AD.

(k) Inspections and repairs specified in this AD of areas of PSEs 53.08.042 and 53.08.043 are acceptable for compliance with the applicable requirements of paragraphs (a) and (b) of AD 93-01-15. The remaining areas of the affected PSEs must be inspected and repaired as applicable, in accordance with AD 93-01-15.

Requirements for Newly Added Airplanes

(l) For airplanes not subject to the requirements of AD 2004-06-06, the reference time for compliance is the effective date of this new AD, rather than April 29, 2004 (the effective date of AD 2004-06-06).

Alternative Methods of Compliance (AMOCs)

(m)(1) The Manager, Los Angeles Aircraft Certification (ACO), Transport Airplane Directorate, FAA, has the authority to approve AMOCs for this AD, if requested in accordance with the procedures found in 14 CFR 39.19.

(2) An AMOC that provides an acceptable level of safety may be used for any repair required by this AD, if it is approved by an Authorized Representative for the Boeing Delegation Option Authorization Organization who has been authorized by the Manager, Los Angeles ACO, to make those findings. For a repair method to be approved, the repair must meet the certification basis of the airplane, and the approval must specifically refer to this AD.

Material Incorporated by Reference

(n) You must use McDonnell Douglas Service Bulletin DC8-53-078, Revision 01, dated January 25, 2001, to perform the actions that are required by this AD, unless the AD specifies otherwise. The Director of the Federal Register previously approved the incorporation by reference of this document as of April 29, 2004 (69 FR 15234, March 25, 2004). Contact Boeing Commercial Airplanes, Long Beach Division, 3855 Lakewood Boulevard, Long Beach, California 90846, Attention: Data and Service Management, Dept. C1-L5A (D800-0024), for a copy of this service information. You may review copies at the Docket Management Facility, U.S. Department of Transportation, 400 Seventh Street, SW., room PL-401, Nassif Building, Washington, DC; on the Internet at http://dms.dot.gov; or at the National Archives and Records Administration (NARA). For information on the availability of this material at the NARA, call (202) 741-6030, or go to http://www.archives.gov/federal_register/code_of_federal_regulations/ibr_locations.html.

Issued in Renton, Washington, on August 24, 2005.
Ali Bahrami,
Manager, Transport Airplane Directorate, Aircraft Certification Service.

[FR Doc. 05-17401 Filed 9-1-05; 8:45 am]

BILLING CODE 4910-13-P